DEPARTMENT OF THE INTERIOR

Bureau of Land Management

[ES-020-02-1310-EI]

Notice of Intent To Prepare Planning Analyses/Environmental Assessments

AGENCY: Bureau of Land Management (BLM), Interior.

ACTION: Notice of Intent to Prepare a Planning Analysis/Environmental Assessment.

SUMMARY: The Jackson Field Office, Eastern States will prepare a Planning Analysis/Environmental Assessment (PA/EA), in cooperation with the U.S. Army Corps of Engineers, to consider leasing Federal mineral estate for oil and gas exploration and development. The lands, managed by the U.S. Army Corps of Engineers, are located along the South Pass and Southwest Pass near the mouth of the Mississippi River in Plaquemines Parish. This notice is issued pursuant to Title 40 Code of Federal Regulations (CFR) 1501.7 and Title 43 CFR 1610.2(c). The planning effort will follow the procedures set forth in Title 43 CFR part 1600. The public is invited to participate in this planning process, beginning with the identification of planning issues and criteria.

DATES: Comments relating to the identification of planning issues and criteria will be accepted for thirty days from the date of this publication. Individual respondents may request confidentiality. If you wish to without your name or street address from public review or from disclosure under the Freedom of Information Act, you must state this prominently at the beginning of your written comment. Such requests will be honored to the extent allowed by law. All submissions from organizations and businesses, and from individuals identifying themselves as representatives or officials of organizations or businesses, will be available for public inspection in their entirety.

ADDRESSES: Send comments to: Bureau of Land Management, Jackson Field Offices; 411 Briarwood Drive, Suite 404; Jackson, MS 39206.

FOR FURTHER INFORMATION CONTACT: Clay Moore, Lead for PA/EA, Jackson Field Office, (601-977-5400).

SUPPLEMENTARY INFORMATION: The BLM has responsibility to consider nominations to lease Federal mineral estate for oil and gas exploration and development. An interdisciplinary team will be used in the preparation of the PA/EA. Preliminary issues, subject to change as a result of public input, are (1) Potential impacts of oil and gas exploration and development on the surface resources and uses by the Corps of Engineers and (2) consideration of restrictions on lease rights to protect surface resources and uses by the Corps of Engineers. Tract locations, along with acreage, are listed below. Total acreage being addressed is 7,966.6 acres.

T22S, R31E, Louisiana Meridian

Lot 3; being all of Lots or Sections 16 and 35 (33.82 acres)

T22S, R32F, Louisiana Meridian

Lot 2; being all of Lot or Sec. 16 (26.7 acres)

Lot 4a; being all of Lots or Sections 25 through 44 (870.65 acres)

Lot 7; being all of Lot or Section 19 (90.95 acres)

T22S, R33E, Louisiana Meridian

Lot 4b; being all of Lots or Sections 1 through 7 and Lots or Sections 3 through 14 (979.22 acres)

Lot 5; being all of Lots or Sections 15 and 16 (20 acres)

T23S, R21E, Louisiana Meridian

Lot 6; being all of Lots 9, 10, 15 and 16 (273 acres)

T23S, R32E, Louisiana Meridian

Lot 8; being all of Lot or Section 91 (121.72 acres)

Lot 9; being all of Lot or Section 1 and Lot or Section 13 (also described as Lot 18 T22S, R32E; Lot or Sections 14 through 90, Lots or Sections 92 through 96) (1,849 acres)

T24S, R32E, Louisiana Meridian

Lot 10; being all of Lots or Sections 1 through 40 and a portion of Lot or Section 28 (1,908.42 acres)

T24S, R32E and 33E, Louisiana Meridian

Lot 11; being all of Lots or Sections 41 through 78 and Lots 1 through 10 (1,793.12 acres)

Due to the limited scope of this PA/EA process, public meetings are not scheduled.

Sid Vogelpohl,
Acting Field Manager, Jackson Field Office.

[FR Doc. 01-30497 Filed 12-10-01; 8:45 am]

BILLING CODE 4310-GJ-M